DEPARTMENT OF COMMERCE

National Oceanic and Atmospheric Administration

[I.D. 051305A]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP, which would enable researchers to investigate the feasibility of using low profile gillnets to catch flounders while limiting cod bycatch, would allow for exemptions from the FMP as follows: Gulf of Maine (GOM) Rolling Closure Areas III, IV, and V.

Regulations under the Magnuson-Stevens Fishery Conservation and Management Act (Magnuson-Stevens Act) require publication of this notification to provide interested parties the opportunity to comment on applications for proposed EFPs.

DATES: Comments must be received on or before June 2, 2005.

ADDRESSES: Written comments should be sent to Patricia A. Kurkul, Regional Administrator, NMFS, Northeast Regional Office, 1 Blackburn Drive, Gloucester, MA 01930. Mark the outside of the envelope “Comments on the GOM Low Profile Gillnet Study.” Comments may also be sent via fax to (978) 281-9135, or submitted via e-mail to the following address: da5-21@noaa.gov.

FOR FURTHER INFORMATION CONTACT: Karen Tasker, Fishery Management Specialist, phone (978) 281-9273.

SUPPLEMENTARY INFORMATION: An application for an EFP was submitted on April 15, 2005, by Dr. Pingguo He of the University of New Hampshire (UNH) for a Northeast Consortium funded project. The primary goal of this joint project with the Massachusetts Division of Marine Fisheries is to test lower vertical profile flounder gillnets to reduce the catch of cod while retaining flounders, such as winter flounder, in inshore western GOM waters. Researchers anticipate that, if the experimental net is successful, data gathered during this study may be useful in the establishment of a Special Access Program for the use of B days-at-sea (DAS) in a future action.

The project, which is anticipated to be 11 months in duration and would be conducted between May 2005 and April 2006, would include flume tank trials and 20 days of at-sea trials. Two types of low profile gillnets, each 8 meshes deep with variations in flotation and hanging ratio, would be compared with three commercial cod and flounder gillnets, each 25 meshes deep. The participating vessel would fish the nets in fleets of 10 nets, two nets per type, alternately rigged so that two experimental nets can be compared with the three control nets. Forty nets would be fished per day and the nets would be soaked for 24 hours before hauling.

All specimens caught would be sampled and measured. All undersized fish would be returned to the sea as quickly as practical after measurement and examination. The researcher anticipates that a total of 13,409 lb (6,082 kg) of fish, including 4,918 lb (2,230 kg) of cod, 1,639 lb (743 kg) of flounders, 1,246 lb (565 kg) of monkfish, and 4,590 lb (2,082 kg) of dogfish, would be harvested and/or discarded throughout the course of the study. Other species that are anticipated to be caught are haddock, white hake, lobster, and skate. All legal-sized fish, within the possession limit, would be sold, with the proceeds returned to the project for the purpose of enhancing future research.

All at-sea research would be conducted from one fishing vessel fishing in an area west of west of 70°15′ W. long. and between from 42°40′ N. lat. and 43°10′ N. lat., excluding the Western GOM Closure Area. Researchers have asked for an exemption to the regulations establishing the GOM Rolling Closure Areas III, IV, and V because they believe that an optimum mixture of flounders and cod for testing the experimental gear will be present in the waters of the GOM. Therefore, because the aim of the project is to separate flounders and cod before the fish are brought onboard, an exemption from the GOM Rolling Closure Areas III, IV, and V is important to the success of the study. All research will be conducted using DAS.

The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: May 13, 2005.
Alan D. Risenhoover,
Acting Director, Office of Sustainable Fisheries, National Marine Fisheries Service.

[FR Doc. E5-2491 Filed 5-17-05; 8:45 am]

BILLING CODE 3510-22-S